DEPARTMENT OF DEFENSE

Office of the Secretary

Defense Science Board

AGENCY: Department of Defense.

ACTION: Notice of advisory committee meeting.

SUMMARY: The Defense Science Board Task Force on Exploiting Technology to Transform Military Manpower will meet in closed session on April 18, 2003, at SAIC, 4001 N. Fairfax Drive, Arlington, VA. This Task Force will identify technology options that will reduce military manpower burden of asynchronous threat operations at home and abroad, and recommend a strategic approach to transforming military manpower beginning with the force Protection mission.

The mission of the Defense Science Board is to advise the Secretary of Defense and the Under Secretary of Defense for Acquisition, Technology & Logistics on scientific and technical matters as they affect the perceived needs of the Department of Defense. At this meeting, the Task Force will address longer term technology options for optimizing manpower utilization and for providing manpower flexibility across the full spectrum of operations. Specifically, the Task Force will undertake a broader, more strategic analysis of military manpower requirements and provide the Department with a long term approach for exploiting technology to support overall military manpower transformation. The Department has identified eight functional domains pertinent to DoD missions that may serve the Task Force as a constructive point of departure: training and education; command, control, communications (C³); security and police; manpower utilization; logistics; repair and maintenance; intelligence analysis; and reduced manning weapons systems/platforms.

In accordance with section 10(d) of the Federal Advisory Committee Act, Pub. L. 92-463, as amended (5 U.S.C. App. II), it has been determined that this Defense Science Board Task Force meeting concerns matters listed in 5 U.S.C. 552b(c)(1) and that, accordingly, the meeting will be closed to the public.

Dated: March 5, 2003.
Patricia L. Toppings,
Alternate OSD Federal Register Liaison Officer, Department of Defense.

[FR Doc. 03-5867 Filed 3-11-03; 8:45 am]

BILLING CODE 5001-08-M